DEPARTMENT OF THE TREASURY

Internal Revenue Service

26 CFR Part 1

[REG-106791-00]

RIN 1545-AY55

Liabilities Assumed in Certain Corporate Transactions

AGENCY: Internal Revenue Service (IRS), Treasury.

ACTION: Cancellation of notice of public hearing on proposed rulemaking.

SUMMARY: This document provides notice of cancellation of a public hearing on proposed regulations relating to liabilities assumed in certain corporate transactions.

DATES: The public hearing originally scheduled for Thursday, May 31, 2001, at 10 a.m., is cancelled.

FOR FURTHER INFORMATION CONTACT: Guy R. Traynor of the Regulations Unit, Office of Special Counsel, (202) 622-7180 (not a toll-free number).

SUPPLEMENTARY INFORMATION: A notice of proposed rulemaking and notice of public hearing that appeared in the Federal Register on January 4, 2001 (66 FR 748), announced that a public hearing was scheduled for May 31, 2001 at 10 a.m., in room 4718, 1111 Constitution Avenue, NW., Washington, DC. The subject of the public hearing is proposed regulations under section 301 of the Internal Revenue Code. The public comment period for these regulations expired on May 10, 2001.

The notice of proposed rulemaking and notice of public hearing, instructed those interested in testifying at the public hearing to submit a request to speak and an outline of the topics to be addressed. As of May 15, 2001, no one has requested to speak. Therefore, the public hearing scheduled for May 31, 2001, is cancelled.

Cynthia E. Grigsby,
Chief, Regulations Unit, Office of Special Counsel (Modernization & Strategic Planning).

[FR Doc. 01-13064 Filed 5-22-01; 8:45 am]

BILLING CODE 4830-01-P